DEPARTMENT OF HEALTH AND HUMAN SERVICES

National Institutes of Health

National Institute of Environmental Health Sciences; Notice of Meeting

Pursuant to section 1009 of the Federal Advisory Committee Act, as amended, notice is hereby given of a meeting of the Board of Scientific Counselors, National Institute Environmental Health Sciences.

This will be a hybrid meeting held in-person and virtually and will be open to the public as indicated below. Individuals who plan to attend in-person or view the virtual meeting and need special assistance or other reasonable accommodations, should notify the Contact Person listed below in advance of the meeting. The meeting can be accessed from the NIH Videocast at the following link: https://videocast.nih.gov/.

The meeting will be closed to the public as indicated below in accordance with the provisions set forth in sections 552b(c)(4) and 552b(c)(6), Title 5 U.S.C., as amended for the review, discussion, and evaluation of individual intramural programs and projects conducted by the National Institute Of Environmental Health Sciences, including consideration of personnel qualifications and performance, and the competence of individual investigators, the disclosure of which would constitute a clearly unwarranted invasion of personal privacy.

Name of Committee: Board of Scientific Counselors, National Institute Environmental Health Sciences August ESBSC Meeting.

Date: August 27-29, 2023.

Closed: August 27, 2023, 7:00 p.m. to 8:00 p.m.

Agenda: Discussion of BSC Reviews.

Place: National Institute Environmental Health Sciences, Building 101, Rodbell Auditorium, 111 T.W. Alexander Drive, Research Triangle Park, NC 27709 (Hybrid Meeting).

Open: August 28, 2023, 8:30 a.m. to 10:00 a.m.

Agenda: Meeting Overview and Q & A Session.

Place: National Institute Environmental Health Sciences, Building 101, Rodbell Auditorium, 111 T.W. Alexander Drive, Research Triangle Park, NC 27709 (Hybrid Meeting).

Open: August 28, 2023, 10:15 a.m. to 11:55 a.m.

Agenda: Q & A Session.

Place: National Institute Environmental Health Sciences, Building 101, Rodbell Auditorium, 111 T.W. Alexander Drive, Research Triangle Park, NC 27709 (Hybrid Meeting).

Closed: August 28, 2023, 11:55 a.m. to 12:40 p.m.

Agenda: 1:1 Sessions with Investigators.

Place: National Institute Environmental Health Sciences, Building 101, Rodbell Auditorium, 111 T.W. Alexander Drive, Research Triangle Park, NC 27709 (Hybrid Meeting).

Closed: August 28, 2023, 12:40 p.m. to 1:40 p.m.

Agenda: Working Lunch.

Place: National Institute Environmental Health Sciences, Building 101, Rodbell Auditorium, 111 T.W. Alexander Drive, Research Triangle Park, NC 27709 (Hybrid Meeting).

Open: August 28, 2023, 1:40 p.m. to 2:55 p.m.

Agenda: Poster Session.

Place: National Institute Environmental Health Sciences, Building 101, Rodbell Auditorium, 111 T.W. Alexander Drive, Research Triangle Park, NC 27709 (Hybrid Meeting).

Closed: August 28, 2023, 2:55 p.m. to 3:30 p.m.

Agenda: Closed Session with Fellows and Staff Scientists.

Place: National Institute Environmental Health Sciences, Building 101, Rodbell Auditorium, 111 T.W. Alexander Drive, Research Triangle Park, NC 27709 (Hybrid Meeting).

Open: August 28, 2023, 3:45 p.m. to 5:25 p.m.

Agenda: Q & A Session.

Place: National Institute Environmental Health Sciences, Building 101, Rodbell Auditorium, 111 T.W. Alexander Drive, Research Triangle Park, NC 27709 (Hybrid Meeting).

Closed: August 28, 2023, 5:25 p.m. to 5:55 p.m.

Agenda: 1:1 Sessions with Investigator.

Place: National Institute Environmental Health Sciences, Building 101, Rodbell Auditorium, 111 T.W. Alexander Drive, Research Triangle Park, NC 27709 (Hybrid Meeting).

Open: August 29, 2023, 8:30 a.m. to 9:45 a.m.

Agenda: Meeting Overview and Q & A Session.

Place: National Institute Environmental Health Sciences, Building 101, Rodbell Auditorium, 111 T.W. Alexander Drive, Research Triangle Park, NC 27709 (Hybrid Meeting).

Open: August 29, 2023, 10:00 a.m. to 11:40 a.m.

Agenda: Q & A Session.

Place: National Institute Environmental Health Sciences, Building 101, Rodbell Auditorium, 111 T.W. Alexander Drive, Research Triangle Park, NC 27709 (Hybrid Meeting).

Closed: August 29, 2023, 11:40 a.m. to 12:25 p.m.

Agenda: 1:1 Session with Investigator.

Place: National Institute Environmental Health Sciences, Building 101, Rodbell Auditorium, 111 T.W. Alexander Drive, Research Triangle Park, NC 27709 (Hybrid Meeting).

Closed: August 29, 2023, 12:25 p.m. to 1:30 p.m.

Agenda: Working Lunch.

Place: National Institute Environmental Health Sciences, Building 101, Rodbell Auditorium, 111 T.W. Alexander Drive, Research Triangle Park, NC 27709 (Hybrid Meeting).

Closed: August 29, 2023, 1:30 p.m. to 2:00 p.m.

Agenda: Session with Core Director.

Place: National Institute Environmental Health Sciences, Building 101, Rodbell Auditorium, 111 T.W. Alexander Drive, Research Triangle Park, NC 27709 (Hybrid Meeting).

Closed: August 29, 2023, 2:00 p.m. to 3:30 p.m.

Agenda: Closed BSC Discussion.

Place: National Institute Environmental Health Sciences, Building 101, Rodbell Auditorium, 111 T.W. Alexander Drive, Research Triangle Park, NC 27709 (Hybrid Meeting).

Closed: August 29, 2023, 3:45 p.m. to 4:45 p.m.

Agenda: Closed—Debriefing to NIEHS/DIR Leadership.

Place: National Institute Environmental Health Sciences, Building 101, Rodbell Auditorium, 111 T.W. Alexander Drive, Research Triangle Park, NC 27709 (Hybrid Meeting).

Contact Person: Darryl C. Zeldin, Scientific Director & Principal Investigator, Division of Intramural Research, National Institute of Environmental Sciences, NIH, 111 T.W. Alexander Drive, Mail drop MSC A2-09, Research Triangle Park, NC 27709, 919-541-1169, zeldin@niehs.nih.gov.

Any interested person may file written comments with the committee by forwarding the statement to the Contact Person listed on this notice. The statement should include the name, address, telephone number and when applicable, the business or professional affiliation of the interested person.

In the interest of security, NIH has stringent procedures for entrance into NIH federal property. Visitors will be asked to show one form of identification (for example, a government-issued photo ID, driver's license, or passport) and to state the purpose of their visit.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: July 14, 2023.
Miguelina Perez,
Program Analyst, Office of Federal Advisory Committee Policy.

[FR Doc. 2023-15281 Filed 7-18-23; 8:45 am]

BILLING CODE 4140-01-P